DEPARTMENT OF THE INTERIOR

Bureau of Land Management

[NM-070-01-1430-EU; NMNM102991, NMNM102992]

A Plan Amendment/Environmental Assessment To Resolve Two Occupancy Trespasses in San Juan County, NM

AGENCY: Bureau of Land Management, Interior.

ACTION: Notice of Intent to Prepare a Proposed Resource Plan Amendment.

SUMMARY: Notice is hereby given that the Bureau of Land Management (BLM), Farmington Field Office (FFO) is proposing an amendment to the Farmington Resource Management Plan (RMP) (July 1988). The amendment would amend the plan to allow disposal of public land in FFO's retention zone. This would then make public land available to resolve two occupancy trespasses by direct sale of the tracts of public land to the unauthorized users pursuant to Section 203 of the Federal Land Policy and Management Act of 1976 (43 U.S.C. 1713), as amended. The trespasses are located on the following public lands:

New Mexico Principal Meridian

T. 29 N., R. 11 W.

Sec. 3, lot 6 (portion of N½NW¼NW¼SW¼NE¼)

Containing 0.59 acres, more or less.

T. 31 N., R. 11 W.

Sec. 34, SE¼ SE¼ SE¼ SW¼ NW¼

Containing 0.625 acres, more or less.

DATES: Written scoping comments must be submitted on or before November 30, 2000.

ADDRESSES: Comments should be addressed to the Field Manager, Bureau of Land Management, Farmington Field Office, 1235 La Plata Highway, Suite A, Farmington, NM 87401.

FOR FURTHER INFORMATION CONTACT: Jerrold E. Crockford at the address above or at (505) 599-6333.

SUPPLEMENTARY INFORMATION: Description of Proposed Planning Action: The RMP provides for three land ownership adjustment zones—acquisition, rentention, and exchange. Of these three zones, sale of public land is not authorized within the acquisition zone. Sales are limited to specifically identified parcels (July 1988) within the retention zone, and authorized in the exchange zone. The proposed amendment would make two public lands listed above available to sell by direct sale to resolve two cases of occupancy trespass in BLM FFO's retention zone.

The Type of Issue Anticipated: Resolution of the occupancy trespass is the only issue to be addressed.

Criteria to Guide Development of the Planning Action: The planning criteria were identified to help guide the resolution of the issue. Public land will be considered for disposal in the following priority:

1. Public land which will resolve unintentional unauthorized occupancy.

2. Public land where size, location, or other physical characteristics make them difficult or uneconomical for BLM to manage.

As new information becomes available during the planning process or through public participation, additional criteria may be developed for future guidance of this planning effort.

The Disciplines to be Represented on the Interdisciplinary Team: The planning amendment/environmental assessment will be prepared by an interdisciplinary team consisting of a realty specialist, environmental coordinator, wildlife biologist, geologist, archaeologist, and a rangeland management specialist.

The Kind and Extent of Public Participation Activities to be Provided: A legal notice about the proposed planning action will be placed in the local newspaper. This notice will be sent to the Governor of New Mexico, San Juan County Commissioners, Resource Advisory Council, adjacent landowners, potentially affected members of the public. Depending on the nature and degree of interest expressed during the 30 days following publication of this notice, meetings may be scheduled or additional comments may be solicited.

The Location and Availability of Documents Relevant to the Planning Process: Pertinent information is available at the BLM, Farmington Field Office, 1235 La Plata, Suite A, Farmington, NM 87401.

Dated: October 24, 2000.
M.J. Chavez,
State Director.

[FR Doc. 00-27729 Filed 10-27-00; 8:45 am]

BILLING CODE 4310-FB-M